DEPARTMENT OF VETERANS AFFAIRS

[OMB Control No. 2900-0782]

Proposed Information Collection (Veterans Benefits Administration (VBA) Voice of the Veteran (VOV) Pilot Surveys) Activity: Comment Request

AGENCY: Veterans Benefits Administration, Department of Veterans Affairs.

ACTION: Notice.

SUMMARY: The Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed revised collection, and allow 60 days for public comment in response to the notice. This notice solicits comments information needed to determine beneficiary satisfaction with benefit application and servicing processes for the VBA Compensation Service (CS), Pension Service (P&F), Education (EDU) Service, Loan Guaranty (LGY) Service and Vocational Rehabilitation and Employment (VR&E) Service.

DATES: Written comments and recommendations on the proposed collection of information should be received on or before August 19, 2013.

ADDRESSES: Submit written comments on the collection of information through the Federal Docket Management System (FDMS) at www.Regulations.gov or to Nancy J. Kessinger, Veterans Benefits Administration (20M35), Department of Veterans Affairs, 810 Vermont Avenue NW., Washington, DC 20420 or email nancy.kessinger@va.gov. Please refer to “OMB Control No. 2900-0782” in any correspondence. During the comment period, comments may be viewed online through FDMS.

FOR FURTHER INFORMATION CONTACT: Nancy J. Kessinger at (202) 632-8924 or Fax (202) 632-8925.

SUPPLEMENTARY INFORMATION: Under the PRA of 1995 (Pub. L. 104-13; 44 U.S.C. 3501-3521), Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Titles

a. Enrollment Satisfaction, Compensation and Pension

b. Enrollment Satisfaction, Education

c. Servicing Satisfaction, Education

d. Enrollment Satisfaction, Loan Guarantee Service

e. Servicing Satisfaction, Pension

f. Servicing Satisfaction, Specially Adapted Housing

g. Enrollment Satisfaction, Vocational Rehabilitation and Employment

h. Escaped Beneficiary Vocational Rehabilitation and Employment

i. Servicing Satisfaction, Vocational Rehabilitation and Employment

j. Enrollment Satisfaction, Compensation and Pension

k. Servicing Satisfaction, Compensation

l. Enrollment Satisfaction, Education

m. Servicing Satisfaction, Education

n. Enrollment Satisfaction, Loan Guarantee Service

o. Servicing Satisfaction, Pension

p. Servicing Satisfaction, Special Adapted Housing

q. Enrollment Satisfaction, Vocational Rehabilitation and Employment

r. Non-Participant, Vocational Rehabilitation and Employment

s. Servicing Satisfaction, Vocational Rehabilitation and Employment

OMB Control Number: 2900-0782.

Type of Review: Revision of a currently approved collection.

Abstract: In 2008, VBA recognized a need to develop and design an integrated, comprehensive Voice of the Veteran (VOV) measurement program for their lines of business: Compensation Service, Pension Service, Education Service, Loan Guaranty Service and Vocational Rehabilitation and Employment Service. This continuous measurement program will help VBA understand what is important to Veterans relative to VBA services and will provide VA/VBA leadership with actionable and timely Veteran feedback on how VBA is performing against those metrics. Insights will help identify opportunities for improvement and measure the impact of improvement initiatives. This information collection request is for a tracking study for the VOV program. The results of the tracking study will allow VBA to measure the effectiveness of new initiatives and changes in the processes identified within the VOV Tracking Study. Further, the volumes for each survey-type have been increased in order to provide regional offices with a statistically valid sample size, as approved and reviewed by VBA Leadership and statistician.

Affected Public: Individuals and Households.

Estimated Annual Burden: 32,950 hours.

Estimated Average Burden per Respondent: 15 minutes.

Frequency of Response: One time.

Total Estimated Number of Respondents: 130,800.

Dated: June 17, 2013.
By direction of the Secretary.
Crystal Rennie,
VA Clearance Officer, U.S. Department of Veterans Affairs.

[FR Doc. 2013-14688 Filed 6-19-13; 8:45 am]

BILLING CODE 8320-01-P